DEPARTMENT OF TRANSPORTATION

Pipeline and Hazardous Materials Safety Administration

Applications Delayed More Than 180 Days

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on May 15, 2013.
Donald Burger,
Chief, General Approvals and Permits.

New Special Permit Applications
Application No. | Applicant | Reason for delay | Estimated date of completion
15720-N | Digital Wave Corporation Centennial, CO | 3,1 | 05-31-2013
15747-N | UPS, Inc., Atlanta, GA | 2,3 | 06-30-2013
15727-N | Blackhawk Helicopters, El Cajon, CA | 4 | 05-31-2013
15745-N | Praxair Distribution, Inc., Danbury, CT | 1,3 | 06-30-2013
Renewal Special Permits Applications
15510-R | TEMSCO Helicopters, Inc., Ketchikan, AK | 3 | 05-31-2013

[FR Doc. 2013-12010 Filed 5-21-13; 8:45 am]

BILLING CODE 4910-60-M